DEPARTMENT OF TRANSPORTATION

Federal Aviation Administration

14 CFR Part 39

[Docket No. FAA-2006-24173; Directorate Identifier 2005-NM-262-AD; Amendment 39-14652; AD 2006-12-26]

RIN 2120-AA64

Airworthiness Directives; Boeing Model 777-200, -300, and -300ER Series Airplanes

AGENCY: Federal Aviation Administration (FAA), Department of Transportation (DOT).

ACTION: Final rule; correction.

SUMMARY: The FAA is correcting a typographical error in an existing airworthiness directive (AD) that was published in the Federal Register on June 16, 2006 (71 FR 34808). The error resulted in a reference only to the left main fuel tank in paragraph (f)(2) of that AD rather than to both the left and right main fuel tanks. This AD applies to certain Boeing Model 777-200, -300, and -300ER series airplanes. This AD requires a one-time inspection of the first bonding jumper aft of the bulkhead fitting to detect damage or failure and to determine the mechanical integrity of its electrical bonding path, and repair if necessary; measurement of the bonding resistance between the fitting for the fuel feed tube and the front spar in the left and right main fuel tanks, and repairing the bonding if necessary; and application of additional sealant to completely cover the bulkhead fittings inside the fuel tanks.

DATES: Effective July 21, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2006-24173; the directorate identifier for this docket is 2005-NM-262-AD.

FOR FURTHER INFORMATION CONTACT: Margaret Langsted, Aerospace Engineer, Propulsion Branch, ANM-140S, Seattle Aircraft Certification Office, FAA, 1601 Lind Avenue, SW., Renton, Washington 98057-3356; telephone (425) 917-6500; fax (425) 917-6590.

SUPPLEMENTARY INFORMATION: On June 8, 2006, the FAA issued AD 2006-12-26, amendment 39-14652 (71 FR 34808, June 16, 2006), for certain Boeing Model 777-200, -300, and -300ER series airplanes. The AD requires a one-time inspection of the first bonding jumper aft of the bulkhead fitting to detect damage or failure and to determine the mechanical integrity of its electrical bonding path, and repair if necessary; measurement of the bonding resistance between the fitting for the fuel feed tube and the front spar in the left and right main fuel tanks, and repairing the bonding if necessary; and application of additional sealant to completely cover the bulkhead fittings inside the fuel tanks.

As published, paragraph (f)(2) of that AD refers only to the left main fuel tank. The correct reference is “left and right main fuel tanks.”

No other part of the regulatory information has been changed; therefore, the final rule is not republished in the Federal Register.

The effective date of this AD remains July 21, 2006.

§ 39.13 [Corrected]

In the Federal Register of June 16, 2006, on page 34810, in the third column, paragraph (f)(2) of AD 2006-12-26 is corrected to read as follows:

* * * * *

(2) Measure the bonding resistance between the fitting for the fuel feed tube and the front spar in the left and right main fuel tanks. If the bonding resistance exceeds 0.001 ohm: Before further flight, repair the bonding in accordance with the service bulletin.

* * * * *

Issued in Renton, Washington, on August 9, 2006.
Ali Bahrami,
Manager, Transport Airplane Directorate, Aircraft Certification Service.

[FR Doc. E6-13652 Filed 8-18-06; 8:45 am]

BILLING CODE 4910-13-P